TENNESSEE VALLEY AUTHORITY

Meeting of the Regional Resource Stewardship Council

AGENCY: Tennessee Valley Authority (TVA).

ACTION: Notice of Meeting.

SUMMARY: The TVA Regional Resource Stewardship Council (RRSC) will hold a meeting on Wednesday, September 24, and Thursday, September 25, 2014, to consider various matters.

The RRSC was established to advise TVA on its natural resource stewardship activities. Notice of this meeting is given under the Federal Advisory Committee Act (FACA), 5 U.S.C. App. 2.

The meeting agenda includes the following:

1. Introductions.

2. Updates on Natural Resources issues.

3. Presentations covering TVA's Dam Safety Management and TVA's Reservoir Operations Study implementation and management of the river system to optimize regional benefits.

4. Public Comments.

5. Council Discussion and Advice.

The RRSC will hear opinions and views of citizens by providing a public comment session starting at 10:30 a.m., EST, on Thursday, September 25. Persons wishing to speak are requested to register at the door by 9:30 a.m. on Thursday, September 25 and will be called on during the public comment period. Handout materials should be limited to one printed page. Written comments are also invited and may be mailed to the Regional Resource Stewardship Council, Tennessee Valley Authority, 400 West Summit Hill Drive, WT-9D, Knoxville, Tennessee 37902.

DATES: The public meeting will be held on Wednesday, September 24, from 8:00 a.m. to noon, and Thursday, September 25, from 8:00 a.m. to 11:45 a.m. EST.

ADDRESSES: The meeting will be held at Brasstown Valley Resort, 6321 U.S. Highway 76, Young Harris, Georgia 30582-2717 and will be open to the public. Anyone needing special access or accommodations should let the contact below know at least a week in advance.

FOR FURTHER INFORMATION CONTACT: Beth Keel, 400 West Summit Hill Drive, WT-9 D, Knoxville, Tennessee 37902, (865) 632-6113.

Dated: August 25, 2014.
Joseph J. Hoagland,
Vice President, Stakeholder Relations, Tennessee Valley Authority.

[FR Doc. 2014-20580 Filed 8-28-14; 8:45 am]

BILLING CODE 8120-08-P